Executive Order 14274 of April 15, 2025

Restoring Common Sense to Federal Office Space Management

By the authority vested in me as President by the Constitution and the laws of the United States of America, it is hereby ordered:

Section 1. Purpose. The American people are spread across more than 3.8 million square miles in urban, suburban, and rural areas. To provide the highest quality services in an efficient and cost-effective manner, executive departments and agencies (agencies) must be where the people are.

President Carter signed Executive Order 12072 of August 16, 1978 (Federal Space Management), ordering the Federal Government to prioritize central business districts when siting Federal facilities in urban areas. Intended to improve these districts, President Carter's order has instead prevented agencies from relocating to lower-cost facilities.

Building on Executive Order 12072, President Clinton signed Executive Order 13006 of May 21, 1996 (Locating Federal Facilities on Historic Properties in Our Nation's Central Cities), to encourage agencies to locate their facilities in historic properties and districts, especially when located in central business areas. Much like President Carter's order, President Clinton's order failed to adequately prioritize efficient and effective Government service.

Revoking these orders will restore common sense to Federal office space management by freeing agencies to select cost-effective facilities and focus on successfully carrying out their missions for American taxpayers.

Sec. 2. Revoking Executive Orders. (a) Executive Order 12072 is hereby revoked.

(b) Executive Order 13006 is hereby revoked.

(c) The Administrator of General Services is directed to initiate the process to amend the regulations at title 41, parts 102-79 and 102-83, Code of Federal Regulations, and to take any other steps necessary in accordance with applicable law to conform Federal office space management policy with this order.

(d) Agencies that acquire or utilize federally owned or leased space under authority other than the Federal Property and Administrative Services Act of 1949 (40 U.S.C. 101 et seq.), as amended, shall conform to the provisions of this order to the extent consistent with applicable law.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 15, 2025.

[FR Doc. 2025-06838

Filed 4-17-25; 8:45 am]

Billing code 3395-F4-P